DEPARTMENT OF TRANSPORTATION

Federal Aviation Administration

14 CFR Part 39

[Docket No. FAA-2009-0379; Directorate Identifier 2008-NM-220-AD; Amendment 39-16113; AD 2009-24-19]

RIN 2120-AA64

Airworthiness Directives; Airbus Model A320 Series Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

An A320 operator experienced difficulties in extending the RAT [ram air turbine] during a deployment testing.

During the trouble shooting, the Ejection Jack of the RAT was removed and investigated.

The investigation identified excessive wear of the uplock segments against the inner cylinder of the Ejection Jack, due to an incorrect blend radius of the inner cylinder. * * *

This Ejection Jack failure may prevent the effective deployment and use of the RAT in emergency conditions.

* * * * *

We are issuing this AD to require actions to correct the unsafe condition on these products.

DATES: This AD becomes effective January 8, 2010.

The Director of the Federal Register approved the incorporation by reference of a certain publication listed in this AD as of January 8, 2010.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Tim Dulin, Aerospace Engineer, International Branch, ANM-116, Transport Airplane Directorate, FAA, 1601 Lind Avenue, SW., Renton, Washington 98057-3356; telephone (425) 227-2141; fax (425) 227-1149.

SUPPLEMENTARY INFORMATION:

Discussion

We issued a notice of proposed rulemaking (NPRM) to amend 14 CFR part 39 to include an AD that would apply to the specified products. That NPRM was published in the Federal Register on April 29, 2009 (74 FR 19462). That NPRM proposed to correct an unsafe condition for the specified products. The MCAI states:

An A320 operator experienced difficulties in extending the RAT [ram air turbine] during a deployment testing.

During the trouble shooting, the Ejection Jack of the RAT was removed and investigated.

The investigation identified excessive wear of the uplock segments against the inner cylinder of the Ejection Jack, due to an incorrect blend radius of the inner cylinder. This problem was determined to be caused during the previous rework of the Ejection Jack and was possible due to the incomplete requirements contained within the Component Maintenance Manual (CMM).

This Ejection Jack failure may prevent the effective deployment and use of the RAT in emergency conditions.

This AD therefore mandates the replacement of an Ejection Jack that has been previously reworked in accordance with the incomplete CMM requirements. This will restore the reliability of the Ejection Jack of the RAT.

The implementation of this modification was originally managed by an Airbus monitoring campaign. However, the rate of installation of the corrective action by operators has not met the predicated [sic] target. As such and to ensure continued compliance with the certification requirements, it is considered necessary to require compliance by means of an AD.

You may obtain further information by examining the MCAI in the AD docket.

Comments

We gave the public the opportunity to participate in developing this AD. We considered the comments received.

Request for Inclusion of Airbus Model A320 Only

Both Airbus and Virgin America request that we revise the applicability section (paragraph (c)) of the NPRM to state that only Airbus Model A320 airplanes are affected. The commenters note that Airbus Model A318, A319, and A321 series airplanes are equipped with Sundstrand RATs as part of the basic type design per Airbus modification 22803 and that there is no option to install Hamilton Sundstrand (formerly Dowty) RATs, which is the subject of this AD.

We agree, for the reason stated above, and have removed Airbus Model A318, A319, and A321 airplanes from the applicability statement of this AD. We also noted this change as a difference between European Aviation Safety Agency (EASA) Airworthiness Directive 2008-0199, dated November 5, 2008, and the FAA AD in Note 1 of this AD. We coordinated with European Aviation Safety Agency on this issue.

Conclusion

We reviewed the available data, including the comments received, and determined that air safety and the public interest require adopting the AD with the change described previously. We determined that this change will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a Note within the AD.

Costs of Compliance

We estimate that this AD affects 187 products of U.S. registry. We also estimate that it takes about 2 work-hours per product to comply with the basic requirements of this AD. The average labor rate is $80 per work-hour. Based on these figures, we estimate the cost of this AD to the U.S. operators to be $29,920, or $160 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-24-19 Airbus: Amendment 39-16113. Docket No. FAA-2009-0379; Directorate Identifier 2008-NM-220-AD.

Effective Date

(a) This airworthiness directive (AD) becomes effective January 8, 2010.

Affected ADs

(b) None.

Applicability

(c) This AD applies to Airbus Model A320-111, -211, -212, -214, -231, -232, and -233 series airplanes, certificated in any category, all certified models, all serial numbers, equipped with Hamilton Sundstrand (formerly Dowty) Ram Air Turbine (RAT) Ejection Jack, Model ERPS13EJ, part number (P/N) 114160004A or 114160005, except those airplanes on which Airbus modification 27189 was done in production or Airbus Service Bulletin A320-29-1100 was done in service, and on which Airbus modification 28413 was not done in production.

Subject

(d) Air Transport Association (ATA) of America Code 29: Hydraulic Power.

Reason

(e) The mandatory continuing airworthiness information (MCAI) states:

An A320 operator experienced difficulties in extending the RAT during a deployment testing.

During the trouble shooting, the Ejection Jack of the RAT was removed and investigated.

The investigation identified excessive wear of the uplock segments against the inner cylinder of the Ejection Jack, due to an incorrect blend radius of the inner cylinder. This problem was determined to be caused during the previous rework of the Ejection Jack and was possibly due to the incomplete requirements contained within the Component Maintenance Manual (CMM).

This Ejection Jack failure may prevent the effective deployment and use of the RAT in emergency conditions.

This AD therefore mandates the replacement of an Ejection Jack that has been previously reworked in accordance with the incomplete CMM requirements. This will restore the reliability of the Ejection Jack of the RAT.

The implementation of this modification was originally managed by an Airbus monitoring campaign. However, the rate of installation of the corrective action by operators has not met the predicated [sic] target. As such and to ensure continued compliance with the certification requirements, it is considered necessary to require compliance by means of an AD.

Actions and Compliance

(f) Unless already done, do the following actions.

(1) Within 12 months after the effective date of this AD, identify the serial number of the installed ejection jack of the RAT, in accordance with Accomplishment Instructions of Airbus Service Bulletin A320-29-1136, dated February 20, 2007. If the serial number is included in the affected batch identified in the service bulletin, before further flight, replace the ejection jack of the RAT with a modified or reworked ejection jack, in accordance with the Accomplishment Instructions of Airbus Service Bulletin A320-29-1136, dated February 20, 2007.

(2) As of the effective date of this AD, no person may install a RAT Ejection Jack Model ERPS13EJ, P/N 114160004A or 114160005, on any airplane unless the ejection jack has been modified or reworked in accordance with Airbus Service Bulletin A320-29-1136, dated February 20, 2007.

FAA AD Differences

Note 1: This AD differs from the MCAI and/or service information as follows: While the European Aviation Safety Agency AD 2008-0199, dated November 5, 2008, applies to Airbus Model A318, A319, and A321 series airplanes, this AD does not list these models for reasons explained in the Comments section of this AD.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Tim Dulin, Aerospace Engineer, International Branch, ANM-116, Transport Airplane Directorate, FAA, 1601 Lind Avenue, SW., Renton, Washington 98057-3356; telephone (425) 227-2141; fax (425) 227-1149. Before using any approved AMOC on any airplane to which the AMOC applies, notify your principal maintenance inspector (PMI) or principal avionics inspector (PAI), as appropriate, or lacking a principal inspector, your local Flight Standards District Office.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency Airworthiness Directive 2008-0199, dated November 5, 2008; and Airbus Service Bulletin A320-29-1136, dated February 20, 2007; for related information.

Material Incorporated by Reference

(i) You must use Airbus Service Bulletin A320-29-1136, excluding Appendix 01, dated February 20, 2007, to do the actions required by this AD, unless the AD specifies otherwise.

(1) The Director of the Federal Register approved the incorporation by reference of this service information under 5 U.S.C. 552(a) and 1 CFR part 51.

(2) For service information identified in this AD, contact Airbus, Airworthiness Office—EAS, 1 Rond Point Maurice Bellonte, 31707 Blagnac Cedex, France; fax +33 5 61 93 44 51; e-mail: account.airworth-eas@airbus.com; Internet http://www.airbus.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on November 19, 2009.
Stephen P. Boyd,
Acting Manager, Transport Airplane Directorate, Aircraft Certification Service.

[FR Doc. E9-28556 Filed 12-3-09; 8:45 am]

BILLING CODE 4910-13-P